NATIONAL SCIENCE FOUNDATION

Notice of Intent To Seek Approval To Establish an Information Collection

AGENCY: National Science Foundation.

ACTION: Notice and request for comments.

SUMMARY: The National Science Foundation (NSF) is announcing plans to request clearance of this collection. In accordance with the requirement of Section 3506(c)(2)(A) of the Paperwork Reduction Act of 1995 (Pub. L. 104-13), we are providing opportunity for public comment on this action. After obtaining and considering public comment, NSF will prepare the submission requesting that OMB approve clearance of this collection for no longer than 3 years.

DATES: Written comments on this notice must be received by November 13, 2012 to be assured of consideration. Comments received after that date will be considered to the extent practicable.

FOR FURTHER INFORMATION CONTACT: To request more information on the proposed project or to obtain a copy of the data collection plans and instruments, contact Celestine Pea, Ph.D., National Science Foundation, 885 S 4201 Wilson Boulevard, Arlington, Virginia 22230, 703-292-5186, cpea@nsf.gov. Individuals who use a telecommunications device for the deaf (TDD) may call the Federal Information Relay Service (FIRS) at 1-800-877-8339, which is accessible 24 hours a day, 7 days a week, 365 days a year (including federal holidays). You may obtain a copy of the data collection instruments and instructions from Dr. Pea.

SUPPLEMENTARY INFORMATION: Title of Collection: Program Evaluation of the National Science Foundation's Research and Evaluation on Education in Science and Engineering (REESE).

OMB Number: 3145-NEW.

Expiration Date of Approval: Not Applicable.

Type of request: New.

Abstract: In compliance with the requirement of Section 3506(c)(2)(A) of the Paperwork Reduction Act of 1995, for opportunity for public comment on proposed data collection projects, the Office of the Director, the National Science Foundation (NSF), will publish periodic summaries of proposed projects to be submitted to the Office of Management and Budget (OMB) for review and approval.

A Program Evaluation of the National Science Foundation's Research and Evaluation on Education in Science and Engineering (REESE). Type of Information Collection Request: New collection. Need and Use of Information Collection: This study will provide data on program accomplishments and contributions to the field of STEM teaching and learning, informing program improvement, and enhancing understanding of both what the program is accomplishing and how. The primary objectives of the study are to conduct a survey of the REESE program to understand the impact and influence of the REESE program and to identify links between the REESE program and other NSF programs. The findings will provide valuable information concerning the impacts and influences of the granting program and the grantees and whether the REESE program has had an influence on broader American society.

Frequency of Response: Once.

Affected Public: Individuals.

Type of Respondents: REESE Grantees and unsuccessful Grantees. There are no Capital Costs to report.

Estimated Number of Respondents: 494; Estimated Number of Responses per Respondent: 1: Average Burden Hours Per Response: .30. Estimated Total Annual Burden Hours Requested: 247 and the annualized cost to respondents is estimated at $7,904.

Comments: Comments are invited on (a) whether the proposed collection of information is necessary for the proper performance of the functions of the NSF, including whether the information shall have practical utility; (b) the accuracy of the NSF's estimate of the burden of the proposed collection of information; (c) ways to enhance the quality, utility, and clarity of the information on respondents, including through the use of automated collection techniques or other forms of information technology; (d) ways to minimize the burden of the collection of information on those who are to respond, including through the use of appropriate automated, electronic, mechanical or other technological collection techniques or other forms of information technology.

Dated: September 7, 2012.
Suzanne H. Plimpton,
Reports Clearance Officer, National Science Foundation.

[FR Doc. 2012-22455 Filed 9-11-12; 8:45 am]

BILLING CODE 7555-01-P